DEPARTMENT OF LABOR

Employment and Training Administration

[TA-W-62,073]

Fujitsu Ten Corporation of America, Rushville Indiana Operations Including On-Site Leased Workers of Personnel Management, Inc. and Penmack Rushville, Indiana; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 11, 2007, applicable to workers of Fujitsu Ten Corporation of America, Rushville Indiana Operations, including on-site leased workers of Personnel Management, Inc., Rushville, Indiana. The notice will be published soon in the Federal Register.

At the request of the State agency, the Department reviewed the certification for workers of the subject firm. The workers are engaged in the production of automotive electronic controls.

The review of the investigation record shows that the Department inadvertently excluded from the certification on-site leased workers from Penmack.

Accordingly, the Department is amending this certification to include on-site leased workers from Penmack. The workers of Penmack at the Rushville site are sufficiently under the control of Fujitsu Corporation of America to be considered leased workers.

The amended notice applicable to TA-W-62,073 is hereby issued as follows:

“All workers of Fujitsu Ten Corporation of America, Rushville Indiana Operations, including on-site leased workers of Personnel Management, Inc. and Penmack, Rushville, Indiana, who became totally or partially separated from employment on or after August 28, 2006, through October 11, 2009, are eligible to apply for adjustment assistance under Section 223 of the Trade Act of 1974, and are also eligible to apply for alternative trade adjustment assistance under Section 246 of the Trade Act of 1974.”

Signed at Washington, DC this 23rd day of October 2007.
Richard Church,
Certifying Officer, Division of Trade Adjustment Assistance.

[FR Doc. E7-21188 Filed 10-25-07; 8:45 am]

BILLING CODE 4510-FN-P